DEPARTMENT OF THE INTERIOR

Fish and Wildlife Service

Information Collection submitted to the Office of Management and Budget (OMB) for Renewal Approval Under the Paperwork Reduction Act (PRA)

SUMMARY: The Service submitted the forms for the collection of information listed below to OMB for renewal approval under the Paperwork Reduction Act. Copies of the forms and related material may be obtained by contacting the Service Information Collection Clearance Officer at the address listed below.

DATES: Comments must be submitted on or before September 14, 2000.

ADDRESSES: Interested parties should send comments and suggestions on the requirement directly to the Office of Information and Regulatory Affairs; Office of Management and Budget; Attention: Interior Desk Officer, 725 17th Street, NW., Washington, DC 20503; and they should send a copy of the comments to Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Jack Hicks, (703) 358-1851, fax (703) 358-1837, or Jack_Hicks@fws.gov E-mail.

SUPPLEMENTARY INFORMATION: The Service invites comments on:

(1) Whether the collection of information is necessary for the proper performance of the functions of the agency, including whether the information will have practical utility;

(2) Ways to enhance the quality, utility, and clarity of the information being collected;

(3) The accuracy of the agency's estimate of the time burden of the collection of information; and

(4) Ways to reduce the time burden of the collection of information on respondents.

Title: Grant Agreement and Amendment to Grant Agreement

OMB Approval Number: 1018-0049 (covers both forms)

Service Form Numbers:

3-1552 Grant Agreement, and

3-1591 Amendment to Grant Agreement

The U.S. Fish and Wildlife Service has submitted to OMB a request to renew its approval of the collection of information for the Federal Aid program. The Service is requesting a three year term of approval for this information collection. A previous 60 day notice on this information collection requirement was published on May 1, 2000 (65 FR 25354) Federal Register requesting comment. No comments on the previous notice were received as of July 24, 2000. This notice provides an additional 30 days in which to comment on the following information.

An agency may not conduct or sponsor, and a person is not required to respond to, a collection of information unless it displays a currently valid OMB control number. The OMB control number for this collection is 1018-0049.

Description and Use: The Federal Grants and Cooperative Agreement Act of 1977 requires Federal agencies to use some type of grant agreement as the legal instrument to transfer money, property, or services to state or local governments. The U.S. Fish and Wildlife Service uses these forms to make or amend awards for approved grant projects. This includes determining if the estimated cost is reasonable, the cost sharing is consistent with the applicable program statutes, and whether sufficient federal funds are available for obligation. The state uses the information to request funds and identify proposed cost sharing. Federal cost distribution provides the State an opportunity to consolidate work under a single project for funding by more than one grant program and distribute the Federal share among applicable programs. The information collected on the amendment form is used to identify and approve proposed changes in the grant agreement.

Frequency of Collection: Generally annually.

Description of Respondents: State, Territorial (the Commonwealth of Puerto Rico, the District of Columbia, the Commonwealth of the Northern Mariana Islands, Guam, the Virgin Islands, and American Samoa), local governments, and certain others receiving grant funds.

Estimated Burden To Complete Form: One hour.

Form used | Number of requests annually | Average response time in hours | Annual burden in hours
Grant Agreement | * 3500 | * 1 | 3500
Amendment to Grant Agreement | * 1750 | * 1 | 1750
Totals | 5250 | 1 | 5250

Dated: July 25, 2000.
Rebecca Mullin,
Information Collection Officer, Fish and Wildlife Service.

[FR Doc. 00-20618 Filed 8-14-00; 8:45 am]

BILLING CODE 4310-55-M